SMALL BUSINESS ADMINISTRATION

Public Federal Regulatory Enforcement Fairness Hearing; Region IV Regulatory Fairness Board

The Small Business Administration Region IV Regulatory Fairness Board and the SBA Office of the National Ombudsman will hold a Public Hearing on Tuesday, December 9, 2003 at 1 p.m. at 1720 Peachtree Street, Room 197, Atlanta, GA 30309, to receive comments and testimony from small business owners, small government entities, and small non-profit organizations concerning regulatory enforcement and compliance actions taken by federal agencies.

Anyone wishing to attend or to make a presentation must contact Annette Rodriguez in writing or by fax, in order to be put on the agenda. Annette Rodriguez, Georgia District Office, 233 Peachtree Street, NE Suite 1900, Atlanta, GA 30303, phone (404) 331-0100 x614, fax (404) 331-0101 or (202) 481-0288, e-mail: annette.rodriguez@sba.gov.

For more information, see our Web site at www.sba.gov/ombudsman.

Dated: November 21, 2003.
Peter Sorum,
National Ombudsman (Acting).

[FR Doc. 03-29712 Filed 11-26-03; 8:45 am]

BILLING CODE 8025-01-P